OFFICE OF PERSONNEL MANAGEMENT

Excepted Service

AGENCY: U.S. Office of Personnel Management (OPM).

ACTION: Notice.

SUMMARY: This notice identifies Schedule A, B, and C appointing authorities applicable to a single agency that were established or revoked from December 1, 2013, to December 31, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

10. Department of Justice (Sch. A, 213.3110)

(b) Reserved

06. Department of Defense (Sch. A, 213.3106)

(b) Entire Department (including the Office of the Secretary of Defense and the Departments of the Army, Navy, and Air Force)—

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2014.

11. Department of Homeland Security (Sch. A 213.3111)

(f) U.S. Citizenship and Immigration Services—

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a)(1))

(2) Lamplighters. (Formerly 213.3194(a)(2))

(3) Professors, Associate Professors, Assistant Professors, Instructors, one Principal Librarian, one Cadet Hostess, and one Psychologist (Counseling) at the Coast Guard Academy, New London, Connecticut. (Formerly 213.3194(a)(3))

16. Department of Health and Human Services (Sch. A, 213.3116)

(b) Public Health Service—

(15) Reserved (Moved to 213.3111(g))

94. Department of Transportation (Sch. A, 213.3194)

(a)-(c) Reserved

95. Reserved (Moved to 213.3111(h))

Schedule B

No schedule B authorities to report during December 2013.

Schedule C

The following Schedule C appointing authorities were approved during December 2013.

Agency name | Organization name | Position title | Authorization No. | Effective date
DEPARTMENT OF AGRICULTURE | Office of Communications | Press Assistant | DA140013 | 12/6/2013
| Office of the Under Secretary for Food, Nutrition and Consumer Services | Chief Communications Officer | DA140015 | 12/13/2013
| Farm Service Agency | Senior Advisor | DA140020 | 12/23/2013
|  | State Executive Director, North Carolina | DA140021 | 12/23/2013
DEPARTMENT OF COMMERCE | Office of Business Liaison | Special Assistant | DC140014 | 12/12/2013
| Office of Executive Secretariat | Deputy Director, Executive Secretariat | DC140016 | 12/12/2013
| Office of the Under Secretary | Deputy Chief of Staff for USPTO | DC140013 | 12/13/2013
| Office of the Chief of Staff | Director of Advance and Protocol | DC140018 | 12/23/2013
COMMISSION ON CIVIL RIGHTS | Commissioners | Special Assistant | CC140001 | 12/19/2013
COMMODITY FUTURES TRADING COMMISSION | Office of the Chief Economist | Chief Economist | CT140001 | 12/5/2013
CONSUMER PRODUCT SAFETY COMMISSION | Office of Commissioners | Special Assistant (Legal) | PS120001 | 12/5/2013
| Office of Executive Director | Supervisory Public Affairs Specialist | PS140003 | 12/5/2013
COUNCIL ON ENVIRONMENTAL QUALITY | Office of the Chairman | Special Assistant for Land and Water | EQ140002 | 12/19/2013
|  | Special Assistant for Communications | EQ140004 | 12/20/2013
DEPARTMENT OF DEFENSE | Office of the Under Secretary of Defense (Acquisition, Technology, and Logistics) | Special Assistant (Acquisition, Technology and Logistics) | DD140008 | 12/3/2013
| Office of the Secretary | Confidential Assistant | DD140010 | 12/11/2013
DEPARTMENT OF EDUCATION | Office of Innovation and Improvement | Confidential Assistant | DB140021 | 12/4/2013
| Office of Elementary and Secondary Education | Confidential Assistant | DB140008 | 12/5/2013
| Office of the General Counsel | Special Assistant | DB140022 | 12/6/2013
| Office for Civil Rights | Chief of Staff | DB140024 | 12/11/2013
| Office of Elementary and Secondary Education | Special Assistant | DB140025 | 12/11/2013
DEPARTMENT OF ENERGY | Office of the Secretary | Senior Advisor | DE140016 | 12/3/2013
| Assistant Secretary for Congressional and Intergovernmental Affairs | Deputy Assistant Secretary for House Affairs | DE140019 | 12/9/2013
| Office of Nuclear Energy | Special Advisor | DE140020 | 12/9/2013
| Office of the Under Secretary | Special Assistant | DE140015 | 12/16/2013
| Office of Management | Scheduler | DE140025 | 12/23/2013
ENVIRONMENTAL PROTECTION AGENCY | Office of the Associate Administrator for External Affairs and Environmental Education | Director, Office of Public Engagement | EP140006 | 12/4/2013
|  | Deputy Associate Administrator for the Office of External Affairs and Environmental Education | EP140007 | 12/11/2013
GENERAL SERVICES ADMINISTRATION | The Heartland Region | Special Assistant | GS140004 | 12/20/2013
DEPARTMENT OF HEALTH AND HUMAN SERVICES | Office of Intergovernmental and External Affairs | Regional Director, Denver, Colorado, Region VIII | DH140011 | 12/6/2013
DEPARTMENT OF HOMELAND SECURITY | Office of the Assistant Secretary for Policy | Confidential Assistant | DM140015 | 12/3/2013
| Office of the Secretary | Special Assistant | DM140019 | 12/19/2013
DEPARTMENT OF THE INTERIOR | Office of Congressional and Legislative Affairs | Deputy Director, Office of Congressional and Legislative Affairs | DI140008 | 12/16/2013
DEPARTMENT OF JUSTICE | Office of Justice Programs | Senior Advisor | DJ140015 | 12/30/2013
| Office of Public Affairs | Press Secretary | DJ140016 | 12/30/2013
DEPARTMENT OF LABOR | Employee Benefits Security Administration | Special Assistant | DL140005 | 12/6/2013
| Office of the Assistant Secretary for Policy | Policy Advisor | DL140007 | 12/13/2013
| Office of Public Affairs | Special Assistant | DL140008 | 12/13/2013
OFFICE OF MANAGEMENT AND BUDGET | Office of the Director | Assistant for Management Senior Advisor | BO140006 BO140008 | 12/6/2013 12/20/2013
SMALL BUSINESS ADMINISTRATION | Office of Faith-Based and Neighborhood Partnerships | Director of Faith-Based and Neighborhood Partnerships | SB140002 | 12/13/2013
| Office of Field Operations | Regional Administrator, Region IX | SB140004 | 12/19/2013
DEPARTMENT OF STATE | Office of the Under Secretary for Arms Control and International Security Affairs | Staff Assistant | DS140018 | 12/23/2013
DEPARTMENT OF THE TREASURY | Secretary of the Treasury | Special Assistant | DY140022 | 12/20/2013
| Assistant Secretary (Public Affairs) | Spokesperson (2) | DY140023 | 12/20/2013
|  |  | DY140027 | 12/23/2013

The following Schedule C appointing authorities were revoked during December 2013.

Agency | Organization | Position title | Authorization No. | Vacate date
COMMISSION ON CIVIL RIGHTS | Commissioners | Special Assistant to the Commissioner | CC080001 | 12/5/2013
COMMISSION ON CIVIL RIGHTS | Commissioners | Special Assistant | CC090003 | 12/12/2013
COMMODITY FUTURES TRADING COMMISSION | Office of the Chairperson | Special Assistant to the Commissioner | CT100002 | 12/9/2013
DEPARTMENT OF COMMERCE | Office of the Under Secretary | Senior Advisor | DC120084 | 12/14/2013
DEPARTMENT OF COMMERCE | Office of the Executive Secretariat | Deputy Director, Executive Secretariat | DC120119 | 12/22/2013
| Office of the Chief of Staff | Director of Advance | DC120134 | 12/22/2013
DEPARTMENT OF HEALTH AND HUMAN SERVICES | Office of the Assistant Secretary for Public Affairs | Senior Advisor for Digital Communications | DH130096 | 12/6/2013
DEPARTMENT OF HOMELAND SECURITY | Office of the Under Secretary for Intelligence and Analysis | Liaison | DM110115 | 12/14/2013
| Office of the Chief of Staff | Deputy Director of Scheduling | DM110246 | 12/14/2013
| Office of the Assistant Secretary for Policy | Confidential Assistant | DM120169 | 12/14/2013
DEPARTMENT OF JUSTICE | Office of Public Affairs | Press Secretary | DJ110112 | 12/12/2013
EXPORT-IMPORT BANK | Office of Communications | Speechwriter | EB120004 | 12/20/2013

Authority: 5 U.S.C. 3301 and 3302; E.O. 10577, 3 CFR, 1954-1958 Comp., p. 218.

U.S. Office of Personnel Management.
Katherine Archuleta,
Director.

[FR Doc. 2014-03285 Filed 2-13-14; 8:45 am]

BILLING CODE 6325-39-P